DEPARTMENT OF THE INTERIOR

Bureau of Ocean Energy Management

[Docket No. BOEM-2014-0078; MMAA104000]

Outer Continental Shelf, Alaska OCS Region, Chukchi Sea Planning Area, Oil and Gas Lease Sale 193

AGENCY: Bureau of Ocean Energy Management (BOEM), Interior.

ACTION: Notice of Availability of a Second Draft Supplemental Environmental Impact Statement and Notice of Public Hearings; Correction.

SUMMARY: On November 7, 2014, BOEM published a notice in the Federal Register (79 FR 66401). BOEM is changing the venue for one of the public hearing dates. This notice makes that change.

SUPPLEMENTARY INFORMATION: Public Hearings: Pursuant to the regulations implementing the procedural provisions of NEPA, BOEM will hold public hearings on the Second Draft SEIS. The hearing scheduled on December 1, 2014, previously announced to occur at the Loussac Library Complex, will be held at a different location. The hearing will instead take place at the Crowne Plaza Hotel, 109 W. International Airport Road, Anchorage, Alaska.

FOR FURTHER INFORMATION CONTACT: Michael Routhier, Program Analysis Officer and Project Manager, BOEM, Alaska OCS Region, 3801 Centerpoint Drive, Suite 500, Anchorage, Alaska 99503-5823 or by telephone at (907) 334-5200.

Dated: November 17, 2014.
Walter D. Cruickshank,
Acting Director, Bureau of Ocean Energy Management.

[FR Doc. 2014-28003 Filed 11-25-14; 8:45 am]

BILLING CODE 4310-MR-P